ENVIRONMENTAL PROTECTION AGENCY

[EPA-HQ-OW-2014-0359; FRL 9920-75-OEI]

Information Collection Request Submitted to OMB for Review and Approval; Comment Request; Underground Injection Control (UIC) Program (Renewal)

AGENCY: Environmental Protection Agency (EPA).

ACTION: Notice.

SUMMARY: The U.S. Environmental Protection Agency (EPA) submitted an information collection request (ICR), “Underground Injection Control (UIC) Program (Renewal)” (EPA ICR No. 0370.25, OMB Control No. 2040-0042) to the Office of Management and Budget (OMB) for review and approval in accordance with the Paperwork Reduction Act (44 U.S.C. 3501 et seq.). This is a proposed revision of the ICR, which is currently approved through December 31, 2014. EPA requested public comments via the Federal Register (79 FR 46437) on August 8, 2014, for a 60-day comment period. This notice allows for an additional 30 days for public comments. A fuller description of the ICR is provided in this request, including its estimated burden and cost to the public. An agency may not conduct or sponsor and a person is not required to respond to a collection of information unless it displays a currently valid OMB control number.

DATES: Additional comments may be submitted on or before January 28, 2015.

ADDRESSES: Submit your comments, referencing Docket ID Number EPA-HQ-OW-2014-0359, to (1) EPA online using www.regulations.gov (our preferred method), or by mail to: EPA Docket Center, Environmental Protection Agency, Mail Code 28221T, 1200 Pennsylvania Ave. NW., Washington, DC 20460, and (2) OMB via email to oira_submission@omb.eop.gov. Address comments to: OMB Desk Officer for EPA.

EPA's policy is that all comments received will be included in the public docket without change including any personal information provided, unless the comment includes profanity, threats, information claimed to be Confidential Business Information (CBI) or other information whose disclosure is restricted by statute.

FOR FURTHER INFORMATION CONTACT: Robert E. Smith, Office of Ground Water and Drinking Water/Drinking Water Protection Division, 4606M, Environmental Protection Agency, 1200 Pennsylvania Ave. NW., Washington, DC 20460; telephone number: 202-564-3895; fax number: 202-564-3756; email address: smith.robert-eu@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit www.epa.gov/dockets.

Abstract: The UIC program under The Safe Drinking Water Act established a federal and state regulatory system to protect underground sources of drinking water (USDWs) from contamination by injected fluids. Injected fluids include trillions of gallons of various types of fluids each year, such as hazardous waste; oil field brines or produced water; mineral processing fluids; various types of industrial fluids; automotive, sanitary and other wastes; and carbon dioxide injected for enhanced recovery or geologic sequestration. Owners or operators of underground injection wells must obtain permits, conduct environmental monitoring, maintain records and report results to the EPA or the state UIC primacy (primary enforcement) agency. States must report to EPA on permittee compliance and related information. Primacy agencies report mandatory information using standardized forms and annual reports. UIC authorities use data to ensure the protection of USDWs.

Form Numbers: The forms are 7520-1, 7520-2A, 7520-2B, 7520-3, 7520-4, 7520-6, 7520-7, 7520-8, 7520-9, 7520-10, 7520-11, 7520-12, 7520-14, 7520-16 and 7520-17.

Respondents/affected entities: Owners or operators of underground injection wells and state UIC primacy agencies.

Respondent's obligation to respond: Mandatory (40 CFR parts 144 through 148).

Estimated number of respondents: 45,811 (total).

Frequency of response: Annual, semi-annual and quarterly.

Total estimated burden: 1,714,046 hours (per year). Burden is defined at 5 CFR 1320.03(b).

Total estimated cost: $250,332,398 (per year), includes $173,230,258 annualized capital or operation and maintenance costs.

Changes in the Estimates: There is an increase of 700,646 hours in the total estimated respondent burden compared with the ICR currently approved by OMB. This increase is due to adjustments associated with an increase in the injection well inventory, primarily the number of Class II permit applications expected to be approved, as well as increases in the Class I and Class III inventories and the deployment of Class VI (geologic sequestration) activities. These increases are offset by burden reductions associated with decreases in the number Class V well operators submitting inventory information, continued implementation of electronic reporting by states and reduced state reporting frequencies.

Courtney Kerwin,
Acting Director, Collection Strategies Division.

[FR Doc. 2014-30254 Filed 12-24-14; 8:45 am]

BILLING CODE 6560-50-P